DEPARTMENT OF ENERGY

Federal Energy Regulatory Commission

[Project No. 13419-000]

Northeast Hydrodevelopment, LLC; Notice of Preliminary Permit Application Accepted for Filing and Soliciting Comments, Motions To Intervene, and Competing Applications

May 4, 2009.

On April 2, 2009, Northeast Hydrodevelopment, LLC filed an application, pursuant to section 4(f) of the Federal Power Act, proposing to study the feasibility of the Ashuelot River Dam Hydroelectric Project, to be located on the Ashuelot River, in Cheshire County, New Hampshire.

The proposed Ashuelot River Dam Project would be located along the Ashuelot River channel below the existing outlet works at an existing dam owned by the City of Keene Public Works Department. The existing dam, which impounds the Ashuelot River is 160 feet long and 16 feet high and includes a 134-foot-long spillway with three 6.5 foot-high by 5-foot-wide sluice gates. The impoundment encompasses about 34 surface acres.

The proposed project would consist of: (1) A newly constructed powerhouse below the existing outlet works; (2) two submersible or tubular-type turbine-generators with a total hydraulic capacity of 353 cubic feet per second and a total installed generating capacity of 0.236 megawatts; (3) a newly excavated 150-foot-long tailrace; (4) an approximately 500-foot-long transmission line; (5) reinstalled 2-foot-high flashboards; and (6) appurtenant facilities. The Ashuelot River Dam Project would have an estimated average annual generation of between 944 megawatts-hours, which would be sold to Public Service of New Hampshire.

Applicant Contact: Mr. Norm Herbert, Manager, Northeast Hydrodevelopment, LLC, 100 State Route 101A, Building C, Suite 270, Amherst, New Hampshire 03031, (603) 672-8210.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13419) in the docket number field to access the document. For assistance, call toll-free 1-866-208-3372.

Kimberly D. Bose,
Secretary.

[FR Doc. E9-10855 Filed 5-8-09; 8:45 am]

BILLING CODE 6717-01-P